DEPARTMENT OF DEFENSE

Department of the Air Force

Active Duty Service Determinations for Civilian or Contractual Groups

AGENCY: Department of the Air Force.

ACTION: Notice.

SUMMARY: On February 3, 2006, the Secretary of the Air Force, acting as Executive Agent of the Secretary of Defense, determined that the service of the group known as “North Korean Civilian Partisans Recruited, Trained, and Commanded for Military Operations by the U.S. Eighth Army, 8240th Army Unit Far East Liaison Detachment, on the Korean Peninsula and Accompanying Islands from January 15, 1951, Through July 27, 1953,” shall not be considered “active duty” for purposes of all laws administered by the Department of Veterans Affairs (VA).

FOR FURTHER INFORMATION CONTACT: Mr. James D. Johnston at the Secretary of the Air Force Personnel Council (SAFPC); 1535 Command Drive, EE Wing, 3d Fl.; Andrews AFB, MD 20762-7002.

Bao-Ahn Trin,
Air Force Federal Register Liaison Officer.

[FR Doc. E6-2135 Filed 2-14-06; 8:45 am]

BILLING CODE 5001-05-P